DEPARTMENT OF COMMERCE

National Oceanic and Atmospheric Administration

50 CFR Part 660

[Docket No. 100223162-1268-01]

RIN 0648-XB120

Fisheries Off West Coast States; Modifications of the West Coast Commercial and Recreational Salmon Fisheries; Inseason Actions #1, #2, and #3

AGENCY: National Marine Fisheries Service (NMFS), National Oceanic and Atmospheric Administration (NOAA), Commerce.

ACTION: Modification of fishing seasons and landing and possession limits; request for comments.

SUMMARY: NOAA Fisheries announces 3 inseason actions in the ocean salmon fisheries. These inseason actions modified the commercial and recreational fisheries in the area from Cape Falcon, Oregon to Point Arena, California.

DATES: The effective dates for the inseason action are set out in this document under the heading Inseason Actions. Inseason actions remain in effect until modified by additional inseason action or superseded by the 2012 annual management measures on May 1, 2012. Comments will be accepted through May 2, 2012.

ADDRESSES: You may submit comments, identified by NOAA-NMFS-2011-0171, by any one of the following methods:

• Electronic Submissions: Submit all electronic public comments via the Federal eRulemaking Portal http://www.regulations.gov. To submit comments via the e-Rulemaking Portal, first click the “submit a comment” icon, then enter NOAA-NMFS-2011-0171 in the keyword search. Locate the document you wish to comment on from the resulting list and click on the “Submit a Comment” icon on the right of that line.

• Mail: William W. Stelle, Jr., Regional Administrator, Northwest Region, NMFS, 7600 Sand Point Way NE., Seattle, WA 98115-6349.

• Fax: 206-526-6736, Attn: Peggy Mundy.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

FOR FURTHER INFORMATION CONTACT: Peggy Mundy at 206-526-4323.

SUPPLEMENTARY INFORMATION:

Background

In the 2011 annual management measures for ocean salmon fisheries (76 FR 25246, May 4, 2011), NMFS announced the commercial and recreational fisheries in the area from the U.S./Canada Border to the U.S./Mexico Border, beginning May 1, 2011, and 2012 salmon seasons opening earlier than May 1, 2012.

NMFS is authorized to implement inseason management actions to modify fishing seasons and quotas as necessary to provide fishing opportunity while meeting management objectives for the affected species (50 CFR 660.409). Prior to taking inseason action, the Regional Administrator (RA) consults with the Chairman of the Pacific Fishery Management Council (Council) and the appropriate State Directors (50 CFR 660.409(b)(1)).

Management of the salmon fisheries is generally divided into two geographic areas: north of Cape Falcon (U.S./Canada Border to Cape Falcon, Oregon) and south of Cape Falcon (Cape Falcon, Oregon to the U.S./Mexico Border). The inseason actions in this document all apply south of Cape Falcon.

Inseason Actions

Inseason Action #1

The RA consulted with representatives of the Council, California Department of Fish and Game (CDFG), and Oregon Department of Fish and Wildlife (ODFW) on March 5, 2012. The information considered during this consultation related to projected abundance of Chinook salmon stocks for the 2012 salmon fishing season.

Inseason action #1 changed the minimum size limit for Chinook salmon caught in the recreational salmon fishery from Horse Mountain, California to Point Arena, California beginning April 7, 2012. The minimum size limit for this fishery will be 20 inches total length, which is reduced from 24 inches as previously announced. This action was taken to allow access to abundant 3-year old Sacramento River fall Chinook salmon. On March 5, 2012, the states recommended this action and the RA concurred; inseason action #1 took effect on April 7, 2012. This inseason action remains in effect until superseded by inseason action or implementation of 2012 annual management measures which will be effective on May 1, 2012. This inseason action is authorized by 50 CFR 660.409(b)(1).

Inseason Actions #2 and #3

The RA consulted with representatives of the Council, ODFW, and CDFG on March 6, 2012. The information considered during this consultation related to projected abundance of Chinook salmon stocks for the 2012 salmon fishing season.

Inseason action #2 adjusted the scheduled opening date for the commercial salmon fishery from Cape Falcon, Oregon to Humbug Mountain, Oregon. Inseason action #3 adjusted the scheduled opening date for the commercial salmon fishery from Humbug Mountain, Oregon to the Oregon/California Border. These fisheries will open on April 1, 2012 rather than March 15, 2012 as previously scheduled in the 2011 annual management measures. This action was taken as part of developing 2012 annual management measures to provide fisheries consistent with annual catch limits and conservation objectives, while meeting consultation standards on ESA-listed stocks. Fishery models suggested that this delay in opening would provide the best opportunity for optimal harvest without exceeding the guidelines of the FMP. On March 6, 2012, the states recommended this action and the RA concurred; inseason action #2 took effect on March 15, 2012. Modification of quota and/or fishing seasons is authorized by 50 CFR 660.409(b)(1)(i).

All other restrictions and regulations remain in effect as announced for the 2011 Ocean Salmon Fisheries and 2012 fisheries opening prior to May 1, 2012 (76 FR 25246, May 4, 2011).

The RA determined that the best available information indicated that the stock abundance, and catch and effort projections supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (76 FR 25246, May 4, 2011), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: April 12, 2012.
Carrie Selberg,
Acting Director, Office of Sustainable Fisheries, National Marine Fisheries Service.

[FR Doc. 2012-9249 Filed 4-16-12; 8:45 am]

BILLING CODE 3510-22-P